SMALL BUSINESS ADMINISTRATION

[Disaster Declaration #20918 and #20919; PENNSYLVANIA Disaster Number PA-20018]

Administrative Disaster Declaration of a Rural Area for the Commonwealth of Pennsylvania

AGENCY: U.S. Small Business Administration.

ACTION: Notice.

SUMMARY: This is a notice of an Administrative disaster declaration of a rural area for the Commonwealth of Pennsylvania dated December 13, 2024.

Incident: Tropical Storm Debby.

DATES: Issued on December 13, 2024.

Incident Period: August 8, 2024 through August 10, 2024.

Physical Loan Application Deadline Date: February 11, 2025.

Economic Injury (EIDL) Loan Application Deadline Date: September 15, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's disaster declaration of a rural area, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Clearfield, Indiana.

The Interest Rates are:

| Percent
For Physical Damage:
Homeowners with Credit Available Elsewhere | 5.625
Homeowners without Credit Available Elsewhere | 2.813
Businesses with Credit Available Elsewhere | 8.000
Businesses without Credit Available Elsewhere | 4.000
Non-Profit Organizations with Credit Available Elsewhere | 3.250
Non-Profit Organizations without Credit Available Elsewhere | 3.250
For Economic Injury:
Business and Small Agricultural Cooperatives without Credit Available Elsewhere | 4.000
Non-Profit Organizations without Credit Available Elsewhere | 3.250

The number assigned to this disaster for physical damage is 209188 and for economic injury is 209190.

The Commonwealth which received an EIDL Declaration is Pennsylvania.

(Catalog of Federal Domestic Assistance Number 59008)

Isabella Guzman,
Administrator.

[FR Doc. 2024-30235 Filed 12-18-24; 8:45 am]

BILLING CODE 8026-09-P